DEPARTMENT OF TRANSPORTATION

Federal Aviation Administration

14 CFR Part 39

[Docket No. FAA-2008-0224; Directorate Identifier 2007-NE-44-AD]

RIN 2120-AA64

Airworthiness Directives; Rolls-Royce Deutschland Ltd & Co KG (RRD) BR700-715A1-30, BR700-715B1-30, and BR700-715C1-30 Turbofan Engines

AGENCY: Federal Aviation Administration (FAA), DOT.

ACTION: Notice of proposed rulemaking (NPRM).

SUMMARY: We propose to adopt a new airworthiness directive (AD) for the products listed above. This proposed AD results from mandatory continuing airworthiness information (MCAI) provided by the aviation authority of Germany to identify and correct an unsafe condition on an aviation product. The MCAI states the following:

It is necessary to change the limits of the High Pressure (HP) Turbine Stage 1 and Stage 2 Rotor Discs. The maximum approved life of these discs is decreased for all flight missions.

This Emergency Airworthiness Directive (EAD) has been raised to instruct mandatory decreased maximum approved lives in the BR715 Time Limits Manual (TLM) T-715-3BR for the HP Turbine Stage 1 Rotor Disc for both Part No. BRH20130 and Part No. BRH20131 and of the High Pressure (HP) Turbine Stage 2 Rotor Disc for both Part No. BRH19423 and Part No. BRH19427 for all flight missions. The life limits are decreased by the same proportion for all flight missions, thus back to birth pro-rata calculations due to the life limit changes are not necessary.

We are proposing this AD to prevent rotating parts that may have exceeded their low-cycle fatigue life limits from failing, which could result in uncontained engine failure and subsequent damage to the airplane.

DATES: We must receive comments on this proposed AD by May 5, 2008.

ADDRESSES: You may send comments by any of the following methods:

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: Jason Yang, Aerospace Engineer, Engine Certification Office, FAA, Engine and Propeller Directorate, 12 New England Executive Park, Burlington, MA 01803; e-mail: jason.yang@faa.gov; telephone (781) 238-7747; fax (781) 238-7199.

SUPPLEMENTARY INFORMATION:

Comments Invited

We invite you to send any written relevant data, views, or arguments about this proposed AD. Send your comments to an address listed under the ADDRESSES section. Include “Docket No. FAA-2008-0224; Directorate Identifier 2007-NE-44-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Emergency Airworthiness Directive (EAD) 2007-0152-E, dated June 1, 2007, to correct an unsafe condition for the specified products. The EASA EAD states:

It is necessary to change the limits of the High Pressure (HP) Turbine Stage 1 and Stage 2 Rotor Discs. The maximum approved life of these discs is decreased for all flight missions.

This Emergency Airworthiness Directive (EAD) has been raised to instruct mandatory decreased maximum approved lives in the BR715 Time Limits Manual (TLM) T-715-3BR for the HP Turbine Stage 1 Rotor Disc for both Part No. BRH20130 and Part No. BRH20131 and of the High Pressure (HP) Turbine Stage 2 Rotor Disc for both Part No. BRH19423 and Part No. BRH19427 for all flight missions. The life limits are decreased by the same proportion for all flight missions, thus back to birth pro-rata calculations due to the life limit changes are not necessary.

You may obtain further information by examining the EASA EAD in the AD docket.

FAA's Determination and Requirements of This Proposed AD

This product has been approved by the aviation authority of Germany, and is approved for operation in the United States. Pursuant to our bilateral agreement with Germany, they have notified us of the unsafe condition described in the EASA EAD and service information referenced above. We are proposing this AD because we evaluated all information provided by EASA and determined the unsafe condition exists and is likely to exist or develop on other products of the same type design. This proposed AD would require reducing the published life limits of HP Turbine Stage 1 Discs, P/Ns BRH20130 and BRH20131, and HP Turbine Stage 2 Discs, P/Ns BRH19423 and BRH19427.

Costs of Compliance

We estimate that this proposed AD would affect 260 engines installed on airplanes of U.S. registry. We also estimate that it would take about 1 work-hour per engine to perform the proposed actions and that the average labor rate is $80 per work-hour. Based on these figures, we estimate the total cost of the proposed AD to U.S. operators to be $20,800. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Rolls-Royce Deutschland Ltd & Co KG: Docket No. FAA-2008-0224; Directorate Identifier 2007-NE-44-AD.

Comments Due Date

(a) We must receive comments by May 5, 2008.

Affected ADs

(b) None.

Applicability

(c) This AD applies to Rolls-Royce Deutschland Ltd & Co KG (RRD) BR700-715A1-30, BR700-715B1-30, and BR700-715C1-30 turbofan engines. These engines are installed on, but not limited to, McDonnell Douglas Model 717-200 airplanes.

Reason

(d) It is necessary to change the limits of the High Pressure (HP) Turbine Stage 1 and Stage 2 Rotor Discs. The maximum approved life of these discs is decreased for all flight missions.

This Emergency Airworthiness Directive (EAD) has been raised to instruct mandatory decreased maximum approved lives in the BR715 Time Limits Manual (TLM) T-715-3BR for the HP Turbine Stage 1 Rotor Disc for both Part No. BRH20130 and Part No. BRH20131 and of the High Pressure (HP) Turbine Stage 2 Rotor Disc for both Part No. BRH19423 and Part No. BRH19427 for all flight missions. The life limits are decreased by the same proportion for all flight missions, thus back to birth pro-rata calculations due to the life limit changes are not necessary.

We are issuing this AD to prevent rotating parts that may have exceeded their low-cycle fatigue life limits from failing, which could result in uncontained engine failure and subsequent damage to the airplane.

Actions and Compliance

(e) No later than 30 days after the effective date of this AD the following mandatory actions need to be completed for each individual BR700-715 HP Turbine Stage 1 Rotor Disc for both Part No. BRH20130 and Part No. BRH20131 and High Pressure (HP) Turbine Stage 2 Rotor Disc for both Part No. BRH19423 and Part No. BRH19427 installed in a BR700-715A1-30, B1-30 or C1-30 engine:

(1) Identify the mandatory decreased maximum approved life for the HP Turbine Stage 1 and Stage 2 Rotor Discs listed in the tables below:

High Pressure (HP) Turbine Stage 1 Rotor Disc
Part No. | Mandatory decreased maximum approved life: Engine thrust rating: A1-30 Design | Mandatory decreased maximum approved life: Engine thrust rating: B1-30 Design | Mandatory decreased maximum approved life: Engine thrust rating: C1-30 Design | Mandatory decreased maximum approved life: Engine flight mission: A1-30 Hawaiian | Mandatory decreased maximum approved life: Engine flight mission: C1-30 Tropical | Mandatory decreased maximum approved life: Engine flight mission: C1-30 derated Tropical
BRH20130 | 15971 | 13324 | 10500 | 17647 | 3794 | 7941
BRH20131 | 15971 | 13324 | 10500 | 17647 | 3794 | 7941

High Pressure (HP) Turbine Stage 2 Rotor Disc
Part No. | Mandatory decreased maximum approved life: Engine thrust rating: A1-30 Design | Mandatory decreased maximum approved life: Engine thrust rating: B1-30 Design | Mandatory decreased maximum approved life: Engine thrust rating: C1-30 Design | Mandatory decreased maximum approved life: Engine flight mission: A1-30 Hawaiian | Mandatory decreased maximum approved life: Engine flight mission: C1-30 Tropical | Mandatory decreased maximum approved life: Engine flight mission: C1-30 derated Tropical
BRH19423 | 21165 | 17800 | 13372 | 1165 | 10893 | 13461
BRH19427 | 21165 | 17800 | 13372 | 21165 | 10893 | 13461

Note: Approved lives in the table are in flight cycles

(2) Record the mandatory maximum approved life in the applicable lifing documentation. It is mandatory to use the values given in the two tables in step (e)(1) of this AD.

Alternative Methods of Compliance (AMOCs)

(f) The Manager, Engine Certification Office, FAA, has the authority to approve AMOCs for this AD, if requested using the procedures found in 14 CFR 39.19.

Related Information

(g) Refer to EASA Emergency Airworthiness Directive 2007-0152-E, dated June 1, 2007, for related information.

(h) Contact Jason Yang, Aerospace Engineer, Engine Certification Office, FAA, Engine and Propeller Directorate, 12 New England Executive Park, Burlington, MA 01803; e-mail: jason.yang@faa.gov; telephone (781) 238-7747; fax (781) 238-7199, for more information about this AD.

Issued in Burlington, Massachusetts, on March 19, 2008.
Ann C. Mollica,
Acting Manager, Engine and Propeller Directorate, Aircraft Certification Service.

[FR Doc. E8-6866 Filed 4-2-08; 8:45 am]

BILLING CODE 4910-13-P